DEPARTMENT OF TRANSPORTATION

Office of the Secretary

Port Performance Freight Statistics Working Group

AGENCY: Bureau of Transportation Statistics (BTS), Office of the Assistant Secretary for Research and Technology (OST-R), U.S. Department of Transportation (USDOT).

ACTION: Port Performance Freight Statistics Working Group: Notice of public meeting.

SUMMARY: This notice announces a public meeting of the Port Performance Freight Statistics Working Group (hereafter, “Working Group”). The Working Group will provide advice and recommendations to the Bureau of Transportation Statistics (BTS) Director pursuant to Section 6018 of the Fixing America's Surface Transportation (FAST) Act (Pub. L. 114-94; 129 Stat. 1312) on matters related to port performance measures, including: (a) Specifications and data measurements to be used in the Port Performance Freight Statistics Program established under subsection 6018(a); and (b) a process for the Department to collect timely and consistent data, including identifying safeguards to protect proprietary information described in subsection 6018(b)(2). The Working Group will operate in accordance with the provisions of the Federal Advisory Committee Act (FACA) and the rules and regulations issued in implementation of that Act.

DATES: The meeting will be held on July 15, 2016, from 10:30 a.m. to 4:30 p.m., Eastern Standard Time.

ADDRESSES: The meeting will be at U.S. Department of Transportation; 1200 New Jersey Avenue SE., Washington, DC 20590. Any person requiring accessibility accommodations should contact Matthew Chambers at (202) 366-1270 or via email at: portstatistics@dot.gov.

FOR FURTHER INFORMATION CONTACT: U.S. Department of Transportation, Office of the Assistant Secretary for Research and Technology, Bureau of Transportation Statistics, Attn: Port Performance Freight Statistics Working Group, 1200 New Jersey Avenue SE., Room #E32-342, Washington, DC 20590.

SUPPLEMENTARY INFORMATION:

Background: The Port Performance Freight Statistics Working Group has been created in accordance with Section 6018 of the Fixing America's Surface Transportation (FAST) Act (Pub. L. 114-94; Dec. 4, 2015; 129 Stat. 1312). The Working Group supports development of the newly-established BTS Port Performance Freight Statistics Program. The goal of the program is “to provide nationally consistent measures of performance” of the nation's largest ports, and to report annually to Congress on port capacity and throughput.

The Working Group is established in the FAST Act to provide recommendations to the BTS Director on matters related to port performance measures; to identify a standard for port data; to specify standards for consistent port performance measures; to recommend statistics for measuring port capacity and throughput; and to develop a process to collect timely and consistent data. The FAST Act also identifies the membership of the Working Group, and sets a due date for recommendations to the BTS Director of December 4, 2016.

Agenda: This will be the Working Group's first meeting and will include a nonpublic administrative work session, including briefings on their responsibilities as Special Government Employees before the public session. The public session, starting at 10:30 a.m., will include U.S. Department of Transportation staff providing an overview of FAST ACT and an update of the Department's progress implementing its Port Performance Freight Statistics Program and related provisions. The Working Group will commence development of a list of tasks and subtask necessary for it to:

(a) Identify a generally accepted industry standard for port data collection and reporting.

(b) Specify standards for collecting data and reporting nationally consistent port performance measures.

(c) Make recommendations for statistics measuring on U.S. port capacity and throughput.

(d) Develop a process for the U.S. Department of Transportation (hereafter, “Department”) to collect timely and consistent data, including identifying safeguards to protect proprietary information.

The final meeting agenda will be posted on the BTS Web site at www.bts.gov/port_performance in advance of the meeting.

Public Participation: The meeting will be open to the public on a first-come, first served basis, especially because space is limited. Members of the public who wish to attend in-person are asked to send RSVPs, including name and affiliation to portstatistics@dot.gov by July 11, 2016 in order to request a seat and to facilitate entry. Any person requiring accessibility accommodation, such as sign language interpretation, should contact Matthew Chambers at (202) 366-1270 or via email at: portstatistics@dot.gov five (5) business days before the meeting.

Written Comments: Persons who wish to submit written comments for consideration by the Working Group must send them via email to portstatistics@dot.gov or mail to Matthew Chambers, Designated Federal Officer, Port Performance Freight Statistics Working Group, 1200 New Jersey Avenue SE., Room #E32-342, Washington, DC 20590, which must be received on or before July 11, 2016.

Issued in Washington, DC, on June 8, 2016.
Patricia S. Hu,
Director, Bureau of Transportation Statistics.

[FR Doc. 2016-13991 Filed 6-13-16; 8:45 am]

BILLING CODE 4910-9X-P